SOCIAL SECURITY ADMINISTRATION

[Docket No. SSA-2023-0048]

Request for Information on Social Security Scientific Integrity Policy

AGENCY: Social Security Administration (SSA).

ACTION: Request for Information.

SUMMARY: The SSA is soliciting comments and suggestions from the public on the DRAFT Scientific Integrity Policy of the Social Security Administration (DRAFT SSA Scientific Integrity Policy). The DRAFT SSA Scientific Integrity Policy codifies expectations to preserve scientific integrity throughout SSA scientific activities, establishes key roles and responsibilities for those who will lead the agency's scientific integrity program, and, as appropriate, establishes relevant reporting and evaluation mechanisms.

DATES: To ensure that your comments are considered, we must receive them no later than February 26, 2024.

ADDRESSES: You may submit comments by any one of three methods—internet, fax, or mail. Do not submit the same comments multiple times or by more than one method. Regardless of which method you choose, please state that your comments refer to Docket No. SSA-2023-0048 so that we may associate your comments with the correct docket.

Caution: You should be careful to include in your comments only information that you wish to make publicly available. We strongly urge you not to include in your comments any personal information, such as Social Security numbers or medical information.

1. Internet: We strongly recommend that you submit your comments via the internet. Please visit the Federal eRulemaking portal at www.regulations.gov. Use the “Search” function to find docket number SSA-2023-0048. The system will issue a tracking number to confirm your submission. You will not be able to view your comment immediately because we must post each comment manually. It may take up to a week for your comment to be viewable.

2. Fax: Fax comments to 1(833) 410-1631.

3. Mail: Mail your comments to the Office of Legislation and Congressional Affairs, Regulations and Reports Clearance, Social Security Administration, 6401 Security Boulevard, 3rd Floor (East) Altmeyer Building, Mail Stop 3253, Baltimore, Maryland 21235-6401.

Comments are available for public viewing on the Federal eRulemaking portal at www.regulations.gov or in person, during regular business hours, by arranging with the contact person identified below.

FOR FURTHER INFORMATION CONTACT: Robert Weathers, Office of Retirement and Disability Policy, Social Security Administration, 6401 Security Boulevard, Baltimore, Maryland 21235-6401, (410) 615-6965, email: robert.weathers@ssa.gov. For information on eligibility or filing for benefits, call our national toll-free number, 1-800-325-0778, or visit our internet site, Social Security Online, at www.socialsecurity.gov.

SUPPLEMENTARY INFORMATION: SSA has developed a DRAFT SSA Scientific Integrity Policy to help ensure science and scientific activities are proposed, conducted, reviewed, managed, communicated, and used in ways that preserve accuracy and objectivity. The policy aligns with Federal Government scientific integrity efforts described in the 2021 Presidential Memorandum on Restoring Trust in Government Through Scientific Integrity and Evidence-Based Policymaking ¹ (2021 Presidential Memorandum), as well as the National Science and Technology Council reports, Protecting the Integrity of Government Science ² (January 2022) and A Framework for Federal Scientific Integrity Policy and Practice ³ (January 2023).

¹ See 86 FR 8845 (January 27, 2021).

² https://www.whitehouse.gov/wp-content/uploads/2022/01/01-22-Protecting_the_Integrity_of_Government_Science.pdf.

³ https://www.whitehouse.gov/wp-content/uploads/2023/01/01-2023-Framework-for-Federal-Scientific-Integrity-Policy-and-Practice.pdf.

Background

For nearly 90 years, we have administered programs and provided services that make a difference in millions of people's lives. In fiscal year (FY) 2023, our programs provided a combined total of about $1.4 trillion in benefit payments to an average of over 70 million beneficiaries. The major programs we administer—the Old-Age Survivors and Disability Insurance program and the Supplemental Security Income program—provide an important source of economic security for millions of Americans. Our fundamental mission is to deliver quality Social Security services that ensure equity and accessibility, improve the customer experience, and address systemic barriers to participation in our programs.

The 2021 Presidential Memorandum states the Administration's goal is to make evidence-based decisions guided by the best available science and data, recognizing that scientific and technological information, data, and evidence are central to the development and iterative improvement of sound policies and to the equitable delivery of programs across every area of the Federal Government. The 2021 Presidential Memorandum emphasizes that political interference in the work of Federal scientists and other scientists who support the work of the Federal Government (e.g., government contractors, volunteers) and in the communication of scientific facts undermines the welfare of the Nation, contributes to systemic inequities and injustices, and violates the trust that the public places in our government to best serve its collective interests.

We conduct scientific activities that include evaluations of pilot projects, evaluations of demonstration projects, quantitative studies, qualitative studies, and mixed methods studies that inform important priorities, such as delivering services effectively, improving the way we conduct business, updating policies and regulations, and ensuring effective stewardship. For example, we conducted evidence-building activities relevant to our Equity Action Plan,⁴ which was created in accordance with Executive Order (E.O.) 13985 on Advancing Racial Equity and Support for Underserved Communities Through the Federal Government,⁵ as well as E.O. 14058 on Transforming Federal Customer Experience and Service Delivery to Rebuild Trust in Government.⁶ This aligns with our Agency Strategic Plan, Fiscal Years 2022-2026,⁷ which includes a strategy for deepening our understanding of our customers and what drives their evolving service preferences.

⁴ https://www.ssa.gov/open/materials/SSA-E.O.-13985-Equity-Action-Plan.pdf.

⁵ https://www.whitehouse.gov/briefing-room/presidential-actions/2021/01/20/executive-order-advancing-racial-equity-and-support-for-underserved-communities-through-the-federal-government/.

⁶ https://www.whitehouse.gov/briefing-room/presidential-actions/2021/12/13/executive-order-on-transforming-federal-customer-experience-and-service-delivery-to-rebuild-trust-in-government/.

⁷ Social Security Administration, Agency Strategic Plan Fiscal Years 2022-2026, available at https://www.ssa.gov/agency/asp/materials/pdfs/SSA_Agency_Strategic_Plan_Fiscal_Years_2022-2026.pdf.

We also conduct extramural research, demonstration projects, and outreach under sections 1110, 1115, and 1144 of the Social Security Act (Act). Sections 1110 and 1115 of the Act provide the waiver authority we need to conduct extramural research and demonstration projects, while section 1144 of the Act addresses outreach activities to inform and assist Medicare beneficiaries with low income who may be eligible for Medicare cost sharing or subsidized prescription drug coverage. A previous authority, under section 234 of the Act, allowed us to waive Disability Insurance program rules to enhance labor force participation; that authority sunset in 2022. We currently fund a range of scientific projects designed to:

• Help us keep pace with advancements in medicine and technology;

• Modernize our vocational rules;

• Test work support models;

• Analyze program trends, gaps, and inconsistencies; and

• Measure the public's understanding of our programs, as well as the impact of program changes.

Request for Information (RFI)

Through this RFI, we are asking interested persons, including stakeholders across public and private sectors who may be familiar with or interested in the work of our agency, for input on the DRAFT SSA Scientific Integrity Policy.

We invite suggestions that will help strengthen and promote scientific integrity throughout the agency. The responses to this RFI that interested persons submit to us will be considered as we develop a final SSA Scientific Integrity Policy. This RFI is for information and planning purposes only and should not be construed as a solicitation or as an obligation on our part. We will not respond to the comments we receive in response to this RFI. However, we will use the input to develop our Scientific Integrity Policy.

The Commissioner of the Social Security Administration, Martin O'Malley, having reviewed and approved this document, is delegating the authority to electronically sign this document to Faye I. Lipsky, who is the primary Federal Register Liaison for SSA, for purposes of publication in the Federal Register.

Faye I. Lipsky,
Federal Register Liaison, Office of Legislation and Congressional Affairs, Social Security Administration.

[FR Doc. 2024-01494 Filed 1-24-24; 8:45 am]

BILLING CODE 4191-02-P